DEPARTMENT OF THE INTERIOR

Bureau of Land Management

[IDI-35965]

Notice of Proposed Withdrawal and Opportunity for Public Meeting; Idaho

AGENCY: Bureau of Land Management, Interior.

ACTION: Notice.

SUMMARY: The U.S. Forest Service (USFS) has filed an application with the Bureau of Land Management (BLM) requesting the Assistant Secretary of the Interior for Land and Minerals Management withdraw 183.47 acres of National Forest System land in the Idaho Panhandle National Forest from mining to protect the Settler's Grove of Ancient Cedars Recreation Area near Wallace, Idaho. This notice segregates the lands for up to 2 years from location and entry under the United States mining laws while the withdrawal application is being processed. The land will remain open to mineral leasing and to all activities currently consistent with applicable Forest plans and those related to the exercise of valid existing rights.

DATES: Comments and request for a public meeting must be received by May 18, 2011.

ADDRESSES: Comments and meeting requests should be sent to the Forest Supervisor, Idaho Panhandle National Forest, 3815 Schreiber Way, Coeur d'Alene, Idaho 83815.

FOR FURTHER INFORMATION CONTACT: Laura Bingham, BLM Idaho State Office (208) 373-3866 or Scott Bixler, Forest Service, (406) 329-3655.

SUPPLEMENTARY INFORMATION: The USFS has filed an application to withdraw the following described National Forest lands from location and entry under the United States mining laws, subject to valid existing rights. This parcel of land has been withdrawn for USFS use since 1987 for protection of the Settler's Grove of Ancient Cedars Roadless Recreation Area. This proposed withdrawal covers the same land withdrawn for USFS use under Public Land Order (PLO) No. 6658 (52 FR 36577 (1987)). Due to an administrative oversight on the part of the USFS, PLO 6658 expired before an extension of the withdrawal could be processed. Therefore, the USFS is requesting a new 20-year withdrawal covering the same area:

Boise Meridian

Idaho Panhandle National Forest

T. 50 N., R. 5 E.,

Sec. 4, NW¼NE¼ of lot 1, NW¼ of lot 1, SW¼SW¼ of lot 1, N½SW¼ of lot 1, SE¼NE¼ of lot 2, SE¼ of lot 2, NE¼SW¼NE¼, NW¼SE¼SW¼NE¼, E½NW¼SW¼NE¼, SW¼NW¼SW¼NE¼, SW¼SW¼NE¼, E½SE¼SE¼NW¼, SW¼SE¼;SE¼NW¼, SE¼SW¼SE¼NW¼, NW¼NE¼SW¼, NE¼NE¼SW¼, S½NE¼NW¼SW¼, SE¼NW¼NW¼SW¼, NE¼SW¼NW¼SW¼, N½SE¼NW¼SW¼, and W½NW¼NW¼SE¼.

T. 51 N., R. 5 E.,

Sec. 33, S½SE¼NE¼SE¼, SE¼SW¼NE¼SE¼, NE¼SE¼SE¼, E½NW¼SE¼SE¼, W½SE¼SE¼SE¼, SW¼SE¼SE¼, and NE¼SE¼SE¼SE¼.

T. 51 N., R. 5 E.,

Sec. 34, SW¼NW¼SW¼, NW¼SW¼SW¼, S½NW¼NW¼SW¼.

The area described contains 183.47 acres in Shoshone County.

For a period of 2 years from February 17, 2011, subject to valid existing rights the land will be segregated from location and entry under the United States mining laws unless the application is denied or canceled or the withdrawal is approved prior to that date. The temporary land uses which may be permitted during this segregative period include activities currently consistent with applicable plans and those related to the exercise of valid existing rights, including public recreation and other activities compatible with preservation of the character of the area.

The application will be processed in accordance with the regulations set forth in 43 CFR 2300.

For a period of 90 days from the date of publication of this notice, all persons who wish to submit comments, suggestions, or objections in connection with the proposed withdrawal may present their views in writing to the Forest Supervisor, Idaho Panhandle National Forest, at the address indicated above.

The use of a right-of-way, interagency agreement, cooperative agreement or surface management under 43 CFR part 3809 would not adequately constrain nondiscretionary uses that could irrevocably affect the use of the lands for mining purposes.

No water rights would be needed to fulfill the purpose of the requested withdrawal.

Notice is hereby given that an opportunity for a public meeting is afforded in connection with the proposed withdrawal. All interested persons who desire a public meeting for the purpose of being heard on the proposed withdrawal must submit a written request to the Forest Supervisor at the address indicated above by May 18, 2011. Upon determination by the authorized officer that a public meeting will be held, a notice of the time and place will be published in the Federal Register and a newspaper having a general circulation in the vicinity of the land at least 30 days before the scheduled date of the meeting.

Records relating to the application may be examined by interested parties at the address of the Idaho Panhandle National Forest Office stated above.

Comments, including names and street addresses for respondents, will be available for public review at the Idaho Panhandle National Forest Office during regular business hours, 7:30 a.m. to 4 p.m., Monday through Friday, except holidays. Before including your address, or other personal identifying information in your comment, you should be aware that your entire comment—including your personal identifying information—may be made publicly available at any time. While you can ask us in your comment to withhold your personal identifying information from the public review, we cannot guarantee that we will be able to do so.

Authority: 43 U.S.C. 1714 and 43 CFR 2310.3-1.

Jeffery L. Foss,
Deputy State Director, Resource Services.

[FR Doc. 2011-3616 Filed 2-16-11; 8:45 am]

BILLING CODE 4310-11-P